DEPARTMENT OF HOMELAND SECURITY

Public Availability of DHS Fiscal Year 2012 Service Contract Inventory

AGENCY: Office of the Chief Procurement Officer, DHS.

ACTION: Notice of availability.

SUMMARY: In accordance with Section 743 of Division C of the Consolidated Appropriations Act of 2010 (Pub. L. 111-117), the Department of Homeland Security (DHS) is publishing this notice to advise the public of the availability of the FY 2012 Service Contract inventory. This inventory provides information on service contract actions over $25,000 that were made in FY 2012. The information is organized by function to show how contracted resources are distributed throughout the agency. The inventory has been developed in accordance with guidance issued on November 5, 2010 and December 19, 2011 available at http://www.whitehouse.gov/omb/procurement-service-contract-inventories by the Office of Management and Budget's Office of Federal Procurement Policy (OFPP). The guidance for preparing and analyzing FY 2012 inventories is unchanged from OFFP's November 5, 2010 and December 19, 2011 guidance for preparing the inventories. DHS has posted its FY 2012 inventory for public review at: http://www.dhs.gov/xopnbiz/regulations/editorial_0504.shtm under “Acquisition Reports and Notices.”

FOR FURTHER INFORMATION CONTACT: For questions about this notice, please contact Gail Carter at Gail.A.Carter1@dhs.gov, or telephone 202-447-5302.

Anne Terry,
Acting Chief Procurement Officer.

[FR Doc. 2013-01674 Filed 1-30-13; 8:45 am]

BILLING CODE 9110-9B-P